DEPARTMENT OF THE TREASURY

Office of Thrift Supervision

[AC-9: OTS Nos. H-3917 and 01680]

Sound Federal Bancorp, Inc., Mamaroneck, New York; Approval of Conversion Application

Notice is hereby given that on November 12, 2002, the Director, Supervision, Office of Thrift Supervision (“OTS”), or her designee, acting pursuant to delegated authority, approved the application of Sound Federal Savings and Loan Association, Mamaroneck, New York, to convert to the stock form of organization. Copies of the application are available for inspection by appointment (phone number: 202-906-5922 or e-mail: Public.Info@OTS.Treas.gov) at the Public Reading Room, OTS, 1700 G Street, NW., Washington, DC 20552, and the OTS Northeast Regional Office, 10 Exchange Place, 18th Floor, Jersey City, New Jersey 07302.

Dated: November 13, 2002.
By the Office of Thrift Supervision.
Nadine Y. Washington,
Corporate Secretary.

[FR Doc. 02-29191 Filed 11-15-02; 8:45 am]

BILLING CODE 6720-01-M